ENVIRONMENTAL PROTECTION AGENCY

[FRL-7806-4]

Proposed Administrative Order on Consent Pursuant to the Comprehensive Environmental Response, Compensation, and Liability Act of 1980, as Amended by the Superfund Amendments and Reauthorization Act of 1986; In Re: Wells G & H Superfund Site Located in Woburn, MA

AGENCY: U.S. Environmental Protection Agency.

ACTION: Notice of proposed Administrative Order on Consent; request for public comment.

SUMMARY: In accordance with the Comprehensive Environmental Response Compensation, and Liability Act, as amended (“CERCLA”), 42 U.S.C. 9601, et seq., notice is hereby given of a proposed Administrative Order on Consent under section 122(h) of CERCLA, 42 U.S.C. 9622(h), between the United States, on behalf of the U.S. Environmental Protection Agency (“EPA”) and the Olympia Nominee Trust (“Olympia”). The proposed settlement provides a covenant not to sue for approximately one-half of the past response costs including interest incurred by EPA related to the Olympia property ($1,096,741.27) which is part of the Wells G & H Superfund Site. In exchange for this covenant, Olympia has agreed to complete a removal action on its property that EPA has estimated will cost approximately $2,362,572. Given the assets of the Olympia Nominee Trust, this represents a fair and reasonable compromise of EPA's past response cost claim.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at One Congress Street, Boston, MA 02214.

DATES: Comments must be submitted within 30 (thirty) days of publication of this notice.

ADDRESSES: Comments should be addressed to the Regional Hearing Clerk, U.S. Environmental Protection Agency, Region I, One Congress Street, Suite 1100, Mail code RAA, Boston, Massachusetts 02203, and should refer to: In re: Wells G & H Superfund Site, U.S. EPA Docket No. CERCLA-01-2004-0059.

FOR FURTHER INFORMATION CONTACT: A copy of the proposed Administrative Order on Consent can be obtained from M. Gretchen Muench, Senior Enforcement Counsel, U.S. Environmental Protection Agency, Region I, One Congress Street, Mail code SES, Boston, Massachusetts 02214, (617) 918-1896.

Dated: August 6, 2004.
Rich Cavagnero,
Acting Director, OSRR Region I.

[FR Doc. 04-19439 Filed 8-24-04; 8:45 am]

BILLING CODE 6560-50-P